DEPARTMENT OF AGRICULTURE

Food Safety and Inspection Service

[Docket No. FSIS-2011-0017]

Codex Alimentarius Commission: Meeting of the Codex Committee on Food Hygiene

AGENCY: Office of the Under Secretary for Food Safety, U.S. Department of Agriculture.

ACTION: Notice of public meeting and request for comments.

SUMMARY: The Office of the Under Secretary for Food Safety, (USDA), and the Food and Drug Administration (FDA), U.S. Department of Health and Human Services (HHS), are sponsoring a public meeting on November 15, 2011. The objective of the public meeting is to provide information and receive public comments on agenda items and draft United States (U.S.) positions that will be discussed at the 43rd Session of the Codex Committee on Food Hygiene (CCFH) of the Codex Alimentarius Commission (Codex), which will be held in Miami, Florida, from December 5-9, 2011. The Under Secretary for Food Safety and the FDA recognize the importance of providing interested parties the opportunity to obtain background information on the 43rd Session of the CCFH and to address items on the agenda.

DATES: The public meeting is scheduled for November 15, 2011, from 1 p.m. to 4 p.m.

ADDRESSES: The public meeting will be held in the Jamie L. Whitten Building, USDA, 1400 Independence Avenue, SW., Room 107-A, Washington, DC 20250.

Documents related to the 43rd Session of the CCFH will be accessible via the World Wide Web at the following address: http://www.codexalimentarius.net/current.asp

Jenny Scott, U.S. Delegate to the CCFH, invites U.S. interested parties to submit their comments electronically to the following e-mail address Jenny.Scott@fda.hhs.gov.

Call-In Number

If you wish to participate in the public meeting for the 43rd Session of the CCFH by conference call, please use the call-in number and participant code listed below.

Call-in Number: 1-888-858-2144.

Participant Code: 6208658.

FOR FURTHER INFORMATION ABOUT THE 43rd SESSION OF THE CCFH CONTACT: Jenny Scott, Senior Advisor, Office of Food Safety, Center for Food Safety and Applied Nutrition, FDA, 5100 Paint Branch Parkway, HFS-300, Room 3B-014, College Park, MD 20740-3835, telephone: (240) 402-2166, fax: (202) 436-2632, e-mail: Jenny.Scott@fda.hhs.gov.

FOR FURTHER INFORMATION ABOUT THE PUBLIC MEETING CONTACT: Barbara McNiff, U.S. Codex Office, 1400 Independence Avenue, SW., Room 4861, Washington, DC 20250, telephone: (202) 690-4719, fax: (202) 720-3157, e-mail: Barbara.McNiff@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCFH is responsible for:

(a) Drafting basic provisions on food hygiene applicable to all food;

(b) Considering, amending if necessary, and endorsing provisions on hygiene prepared by Codex commodity committees and contained in Codex commodity standards;

(c) Drafting provisions on hygiene applicable to specific food items or food groups, whether coming within the terms of reference of a Codex commodity committee or not;

(d) Considering specific hygiene problems assigned to it by Codex;

(e) Suggesting and prioritizing areas where there is a need for microbiological risk assessment at the international level and to develop questions to be addressed by the risk assessors;

(f) Considering microbiological risk management matters in relation to food hygiene, including food irradiation, and in relation to the risk assessment of FAO/WHO.

The CCFH is hosted by the United States.

Issues To Be Discussed at the Public Meeting

The following items on the agenda for the 43rd Session of the CCFH will be discussed during the public meeting:

• Matters Referred by Codex and/or Other Codex Committees to the Food Hygiene Committee.

• Matters arising from the work of FAO, WHO, and other International Intergovernmental Organizations: (a) Progress Report on the Joint FAO/WHO Expert Meetings on Microbiological Risk Assessment (JEMRA) and Related Matters; (b) Information from the World Organisation for Animal Health (OIE).

• Proposed Draft Guidelines on the Application of General Principles of Food Hygiene to the Control of Viruses in Food at Step 4.

• Proposed Draft Revision of the Principles for the Establishment and Application of Microbiological Criteria for Foods at Step 4.

• Proposed Draft Guidelines for Control of Specific Zoonotic Parasites in Meat: Trichinella spiralis and Cysticercus bovis at Step 3.

• Proposed Draft Annex on Melons to the Code of Hygienic Practice for Fresh Fruits and Vegetables at Step 3.

• Discussion Paper on the Review of the Risk Analysis Principles and Procedures Applied by the CCFH.

• CCFH Work Priorities.

Each issue listed will be fully described in documents distributed, or to be distributed, by the Codex Secretariat prior to the CCFH meeting. Members of the public may access copies of these documents (see ADDRESSES).

Public Meeting

At the November 15, 2011, public meeting, draft U.S. positions on the agenda items will be described and discussed, and attendees will have the opportunity to pose questions and offer comments. Written comments may be offered at the meeting or sent to the U.S. Delegate for the 43rd Session of the CCFH, Jenny Scott (see ADDRESSES). Written comments should state that they relate to activities of the 43rd Session of the CCFH.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/. Options range from recalls, export information, regulations, directives, and notices. Customers can add or delete subscriptions themselves, and have the option to password protect their accounts.

September 19, 2011.
Karen Stuck,
U.S. Manager for Codex Alimentarius.

[FR Doc. 2011-24569 Filed 9-23-11; 8:45 am]

BILLING CODE 3410-DM-P